DEPARTMENT OF ENERGY

Federal Energy Regulatory Commission

Notice of Effectiveness of Exempt Wholesale Generator and Status

Wilton Wind Energy II, LLC | EG19-145-000
Roadrunner Solar Project, LLC | EG19-146-000
High Lonesome Wind Power, LLC | EG19-147-000
Grazing Yak Solar, LLC | EG19-148-000
Caden Energix Hickory LLC | EG19-149-000
East Blackland Solar Project 1 LLC | EG19-150-000
RE Maplewood LLC | EG19-151-000
RE Maplewood 2 LLC | EG19-152-000
Hickory Run Energy, LLC | EG19-153-000
Lapetus Energy Project, LLC | EG19-154-000
Palmer Solar, LLC | EG19-155-000
South Field Energy LLC | EG19-156-000
DWW Solar II, LLC | EG19-157-000
Wright Solar Park LLC | EG19-158-000

Take notice that during the month of September 2019, the status of the above-captioned entities as Exempt Wholesale Generators became effective by operation of the Commission's regulations. 18 CFR 366.7(a) (2019).

Dated: October 9, 2019.
Nathaniel J. Davis, Sr.,
Deputy Secretary.

[FR Doc. 2019-22525 Filed 10-15-19; 8:45 am]

BILLING CODE 6717-01-P